DEPARTMENT OF TRANSPORTATION

National Highway Traffic Safety Administration

[Docket No. NHTSA-2015-0047]

Supplemental Notice of Public Hearing To Determine Whether Fiat Chrysler Has Reasonably Met Its Obligations To Remedy Recalled Vehicles and To Notify NHTSA, Owners, and Purchasers of Recalls

AGENCY: National Highway Traffic Safety Administration (NHTSA), DOT.

ACTION: Supplemental notice of public hearing.

SUMMARY: NHTSA will hold a public hearing on whether Fiat Chrysler Automobiles US LLC (Fiat Chrysler) has reasonably met its obligations to remedy recalled vehicles and to notify NHTSA, owners, and purchasers of recalls. This notice provides supplemental information on the subject matter of the hearing.

DATES: The public hearing will be held beginning at 10 a.m. ET on July 2, 2015, at the U.S. Department of Transportation, 1200 New Jersey Avenue SE., Washington, DC 20590. If you wish to attend or speak at the hearing, you must register in advance no later than June 30, 2015 (and June 26, 2015, for non-U.S. citizens), by following the instructions in the Procedural Matters section of this notice. NHTSA will consider late registrants to the extent time and space allows, but cannot ensure that late registrants will be able to attend or speak at the hearing. To ensure that NHTSA has an opportunity to consider comments, NHTSA must receive written comments by June 23, 2015.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. ET, Monday through Friday, except Federal holidays.

• Fax: (202) 493-2251.

Regardless of how you submit your comments, you should mention the docket number of this document.

You may call the Docket office at 202-366-9324.

Note that all comments received will be posted without change to http://www.regulations.gov, including any personal information provided.

FOR FURTHER INFORMATION CONTACT: For registration to attend or speak at the public hearing: Carla Bridges, National Highway Traffic Safety Administration, 1200 New Jersey Avenue SE., Washington, DC 20590 (Telephone: 202-366-2992) (Fax: 202-366-3820). For hearing procedures: Justine Casselle, Office of the Chief Counsel, National Highway Traffic Safety Administration, 1200 New Jersey Avenue SE., Washington, DC 20590 (Telephone: 202-366-2992) (Fax: 202-366-3820). Information regarding recalls is available on NHTSA's Web site: http://www.safercar.gov. To find recalls by NHTSA Recall Number: (1) In the drop-down menu in the lower right-hand corner for “Shortcut search for a recall,” select “by Campaign ID Number; (2) click “Go”; (3) select the box for “Recalls”; (3) enter the recall number; and (4) click “GO.”

SUPPLEMENTARY INFORMATION: As the agency explained in its Federal Register notice of May 22, 2015 (80 FR 29790), NHTSA has substantial concerns about the significant safety hazards posed to consumers in connection with Fiat Chrysler's administration and execution of its recalls. Pursuant to 49 U.S.C. 30118(e) and 30120(e), and 49 CFR 557.6(d) and 557.7, NHTSA has decided to hold a public hearing on whether Fiat Chrysler has reasonably met its obligations under the National Traffic and Motor Vehicle Safety Act, as amended (Safety Act), to remedy recalled vehicles and to provide notifications regarding its recalls.

I. Initiation of a Recall

A manufacturer of a motor vehicle that decides in good faith that the vehicle contains a defect related to motor vehicle safety or does not comply with an applicable Federal Motor Vehicle Safety Standard (FMVSS) must notify NHTSA by submitting a Defect and Noncompliance Information Report, commonly referred to as a Part 573 Report. 49 U.S.C. 30118(c); 49 CFR 573.6. The manufacturer must subsequently file quarterly reports with NHTSA on the recall, including the status of the manufacturer's recall notification campaign and the number of vehicles that have been remedied. 49 CFR 573.7.

II. Fiat Chrysler Recalls

NHTSA's public hearing may address Fiat Chrysler's performance in recalls including, but not limited to, NHTSA Recall Nos. 13V-038, 13V-252, 13V-527, 13V-528, 13V-529, 14V-154, 14V-373, 14V-391, 14V-438, 14V-567, 14V-634, 14V-635, 14V-749, 14V-795, 14V-796, 14V-817, 15V-041, 15V-046, 15V-090, 15V-114, 15V-115, and 15V-178. This includes two recalls, Recall Nos. 14V-154 and 14V-635, for which the agency identified concerns following publication of its May 22, 2015 Federal Register notice (80 FR 29790). These twenty-two recall campaigns are to address the following:

1. Loosening of the rear axle pinion nut causing loss of vehicle control (Recall No. 13V-038);

2. Rear fuel tank structure's risk of failure (Recall No. 13V-252);

3. Failure of the left tie rod assembly resulting in loss of steering control (Recall No. 13V-527);

4. Failure of the left tie rod assembly resulting in loss of steering control (Recall No. 13V-528);

5. Failure of the left tie rod assembly resulting in loss of steering control (Recall No. 13V-529);

6. Water freezing in the brake booster (Recall No. 14V-154);

7. Inadvertent ignition switch movement turning off the engine (Recall No. 14V-373);

8. Vanity lamp wiring shortages resulting in fire (Recall No. 14V-391);

9. Inadvertent ignition switch movement turning off the engine (Recall No. 14V-438);

10. Inadvertent ignition switch movement turning off the engine (Recall No. 14V-567);

11. Sudden failure of the alternator (Recall No. 14V-634);

12. Electrical connectors of the diesel fuel heater may overheat (Recall No. 14V-635);

13. Inoperative instrument cluster causing vehicle failure (Recall No. 14V-749);

14. Broken springs in the clutch ignition interlock switch (Recall No. 14V-795);

15. Loosening of the rear axle pinion nut causing loss of vehicle control (Recall No. 14V-796);

16. Potential air bag inflator rupture with metal fragments causing serious injury (14V-817);

17. Unintended air bag deployment during vehicle operation (Recall No. 15V-041);

18. Unintended air bag deployment during vehicle operation (Recall No. 15V-046);

19. Contaminated, dislodged or broken parking pawl or park rod (Recall No. 15V-090);

20. Fuel leak near an ignition source (Recall No. 15V-114);

21. Fuel pump relay causing a vehicle to stall without warning (Recall No. 15V-115); and

22. Driver and passenger side door latch failure (Recall No. 15V-178).

III. Recall Remedy Requirements

A manufacturer of a recalled motor vehicle is required to remedy the vehicle's defect or noncompliance without charge. 49 U.S.C. 30120(a). The manufacturer may repair the vehicle, replace the vehicle with an identical or reasonably equivalent vehicle, or refund the purchase price, less a reasonable allowance for depreciation. Id. If a manufacturer decides to repair a defect or noncompliance and the repair is not done adequately within a reasonable time, the manufacturer shall replace the vehicle without charge with an identical or reasonably equivalent vehicle, or refund the purchase price, less a reasonable allowance for depreciation. Id. § 30120(c).

On its own motion or on application by any interested person, NHTSA may conduct a hearing to decide whether a manufacturer has reasonably met the remedy requirements. Id. § 30120(e); 49 CFR 557.6. If NHTSA decides that the manufacturer has not reasonably met the remedy requirements, it shall order the manufacturer to take specified action to meet those requirements, including by ordering the manufacturer to refund the purchase price of the defective or noncomplying vehicles, less a reasonable allowance for depreciation. 49 U.S.C. 30120(a), (c), (e); see 49 CFR 557.8. NHTSA may also take any other action authorized by the Safety Act. 49 U.S.C. 30120(e); 49 CFR 557.8. A person that violates the Safety Act, including the remedy requirements, or regulations prescribed thereunder, is liable to the United States Government for a civil penalty of not more than $7,000 for each violation. 49 U.S.C. 30165(a)(1); 49 CFR 578.6. A separate violation occurs for each motor vehicle and for each failure to perform a required act. Id. The maximum penalty for a related series of violations is $35,000,000. Id.

IV. Whether Fiat Chrysler Has Reasonably Met the Remedy Requirements

The public hearing will address NHTSA's concerns that Fiat Chrysler is not meeting its recall remedy requirements. NHTSA has tentatively concluded that Fiat Chrysler has not remedied vehicles in a reasonable time and has not adequately remedied vehicles. NHTSA will consider information on issues including, but not limited to, those detailed below in deciding whether Fiat Chrysler has reasonably met the remedy requirements of the Safety Act.

A. Failure To Remedy Vehicles in a Reasonable Time

On February 6, 2013, Fiat Chrysler recalled approximately 278,000 model year 2009 Dodge Durango, 2009 Plymouth Aspen, 2009-2011 Dodge Dakota and 2009-2012 Ram 1500 vehicles. This recall, 13V-038, involves a pinion nut on the vehicle's differential that may come loose. If this occurs, both rear wheels can lock up and the vehicle can become uncontrollable. Although this recall was initiated over 16 months ago, NHTSA has received, and continues to receive, numerous complaints from owners of these vehicles that they have been unable to have the recall repair performed because parts to perform the repair are not available. These complaints include incidents where the pinion nut has failed after the owners were notified that parts were not available, including two incidents resulting in crashes.

Another series of recalls involves a tie rod end that can fracture, disabling the steering gear and causing a loss of directional control. Fiat Chrysler filed recall notifications for recalls 13V-527 and 13V-529 on November 6, 2013. The company filed another recall notification for recall 13V-528 on November 11, 2013. These three recalls involve approximately one million Dodge Ram pickup trucks and cab chassis vehicles. Problems with producing sufficient replacement parts to allow repair of these vehicles were compounded by failures of the remedy part that caused Fiat Chrysler to stop shipment of the replacement parts. At this time, a year and a half after the recall notices were filed, many of the vehicles remain unrepaired. Owners have reported to NHTSA that they have been unable to have their vehicles repaired after making multiple attempts to do so because parts are unavailable.

On June 18, 2013 Fiat Chrysler notified NHTSA that it would conduct a recall of approximately 1.5 million model year 2003-2008 Jeep Liberty and model year 1993-1998 Jeep Grand Cherokee vehicles to reduce the risk of fire in rear end collisions. Among other things, Fiat Chrysler indicated that it would install trailer hitches on these vehicles to improve the performance of the rear structure of the vehicles in such impacts. As of April 30, 2015, Fiat Chrysler has completed remedy repairs on 320,000 of the 1.5 million vehicles involved in these recalls.

B. Failure To Adequately Repair Defects

Fiat Chrysler filed a recall notification on July 1, 2014 stating that a safety related defect existed in approximately 650,000 model year 2011-2014 Dodge Durango and Jeep Grand Cherokee vehicles. The defect results in the risk of fire inside the vehicle caused by a short circuit that occurs when fasteners used to secure a sun visor to the head liner pierce a wiring harness located above the sun visor mount. The remedy procedure called for re-locating the wiring to remove the risk that it would be pierced when the sun visor was re-installed. Following several incidents where vehicles experienced fires after the remedy repair had been conducted, Chrysler issued revised instructions and service procedures in April 2015 to ensure that the recall remedy repair procedure did not result in damage to the wiring harness when the sun visor was reattached. NHTSA is aware of 13 incidents where short circuits, including fires or thermal events, occurred after the recall remedy was attempted.

V. Recall Notification Requirements

A manufacturer must submit a Part 573 Report to NHTSA, initiating a recall, not more than five working days after it knew or should have known of a safety-related defect or noncompliance in its vehicles. See 49 CFR 573.6(b). The manufacturer's initial Part 573 Report to must contain, at a minimum the manufacturer's name, the identity of the vehicles potentially containing the defect or noncompliance, and a description of the defect or noncompliance. Id. Other required information not available at the time the initial Part 573 Report must be submitted within five working days after the manufacturer has confirmed the accuracy of the information. Id. This includes a chronology of all principal events that were the basis for the determination that the defect related to motor vehicle safety. 49 CFR 573.6(c)(6).

A manufacturer must amend its Part 573 Report within five working days after it has new information that updates or corrects information previously reported on the identity of the vehicles potentially containing the defect or noncompliance, the total number of vehicles potentially containing the defect or noncompliance, the manufacturer's program for remedying the defect or noncompliance, and the estimated date(s) on which it will begin sending notifications about the recall to owners and dealers. 49 CFR 573.6(b). If a manufacturer becomes aware that the beginning or completion dates reported to the agency for its notifications to owners or dealers will be delayed by more than two weeks, it must promptly advise the agency of the delay and the reasons for the delay, and provide a revised estimate. 49 CFR 573.6(b), (c)(8)(ii).

A manufacturer who decides in good faith that the vehicle contains a safety-related defect or does not comply with an applicable FMVSS must notify owners of the defect or noncompliance no later than 60 days from the date it files its Part 573 Report with NHTSA. 49 U.S.C. 30118(c); 49 CFR 577.7(a)(1).

Owner notifications must be sent, by first class mail, to each person registered under State law as the owner of the vehicle and whose name and address are reasonably ascertainable by the manufacturer through State records or other available sources. 49 U.S.C. 30119(d); 49 CFR 577.7(a)(2)(i). If the owner cannot be reasonably ascertained, the manufacturer shall notify the most recent purchaser known to the manufacturer. Id. Among other things, the notification to owners must contain a clear description of the safety-related defect or noncompliance, an evaluation of the risk to motor vehicle safety reasonably related to the defect or noncompliance, the measures to be taken to obtain a remedy, and the earliest date on which the vehicle will be remedied without charge. 49 U.S.C. 30119(a); 49 CFR part 577. If a remedy is not available at the time of the initial notice, then the manufacturer must send a second notice to owners once a remedy is available. 49 CFR 577.7(a)(1).

A manufacturer must submit a copy of its proposed owner notification letter to NHTSA's Recall Management Division no fewer than five Federal Government business days before it intends to begin mailing it to owners. 49 CFR 577.5(a).

A manufacturer must also send notifications to dealers within a reasonable time after the manufacturer first decides that a safety-related defect or noncompliance exists. 49 U.S.C. 30119(c); 49 CFR 577.7(a). Among other requirements, the dealer notice must identify the vehicles covered by the recall, describe the defect or noncompliance, provide a brief evaluation of the risk to motor vehicle safety associated with the defect or noncompliance, and include a complete description of the recall remedy and the estimated date on which the remedy will be available. 49 CFR 577.13. The dealer notice must also include an advisory that it is a violation of Federal law for a dealer to deliver a new motor vehicle covered by the notification under a sale or lease until the defect or noncompliance is remedied. Id. Any required information that is not available at the time of the initial dealer notice shall be provided as it becomes available. Id.

A manufacturer is required to submit to NHTSA a representative copy of all notices, bulletins, and other communications that related directly to a defect or noncompliance and are sent to more than one manufacturer, distributor, dealer or purchaser no later than five days after they are initially sent. 49 CFR 573.6(c)(10).

All submissions pursuant to 49 CFR part 573, except as otherwise required, must be submitted to NHTSA through its online recalls portal. 49 CFR 573.9. A manufacturer must use the provided templates for all required submissions. Id.

On its own motion or on petition of any interested person, NHTSA may conduct a hearing to decide whether a manufacturer has reasonably met its notification requirements. 49 U.S.C. 30118(e); 49 CFR 557.6. If NHTSA decides that the manufacturer has not reasonably met the notification requirements, it shall order the manufacturer to take specified action to meet those requirements and may take any other action authorized by the Safety Act. 49 U.S.C. 30118(e); 49 CFR 557.8. A person that violates the Safety Act, including the notification requirements, or regulations prescribed thereunder, is liable to the United States Government for a civil penalty of not more than $7,000 for each violation. 49 U.S.C. 30165(a)(1); 49 CFR 578.6. A separate violation occurs for each motor vehicle and for each failure to perform a required act. Id. The maximum penalty for a related series of violations is $35,000,000. Id.

VI. Whether Fiat Chrysler Has Reasonably Met the Notification Requirements

The public hearing will address NHTSA's concerns that Fiat Chrysler is not meeting its recall notification requirements. NHTSA has tentatively concluded that Fiat Chrysler has not notified vehicle owners about recalls in a timely manner and has not submitted information to NHTSA about its recalls that is timely, correct, complete, and in the required form. Compliance with the notification requirements is important to allow owners to make informed decisions about their safety and to enable NHTSA to determine whether Fiat Chrysler's recalls are effective in mitigating the safety risk of defects.

NHTSA will consider information on issues including, but not limited to, those detailed below in deciding whether Fiat Chrysler has reasonably met the notification requirements of the Safety Act.

A. Untimely Recall Notices to Owners

Fiat Chrysler acknowledged, in its response to NHTSA's May 18, 2015 Special Order, that it did not timely notify owners about certain recalls. Fiat Chrysler stated that it first notified owners of defects in their vehicles after the 60-day deadline in Recall Nos. 14V-373, 14V-567, 14V-634, 14V-795, and 15V-115.¹ It appears Fiat Chrysler also did not notify owners that their vehicles were recalled within the required 60-day period in at least two additional recalls, Recall Nos. 13V-527 and 14V-635. In Recall No. 13V-527, Fiat Chrysler reported to NHTSA that it mailed interim owner notices on January 16, 2014, or 11 days late. In Recall No. 14V-635, Fiat Chrysler reported to NHTSA that it mailed interim owner notices on December 8, 2014, or two days late.

¹ For Recall No. 14V-373, Fiat Chrysler previously reported to NHTSA that it mailed interim owner notices on September 11, 2014, or 19 days late. Fiat Chrysler now says in its Special Order response that its interim owner notices were mailed 12 days late. For Recall No. 14V-795, Fiat Chrysler previously reported to NHTSA that it mailed interim owner notices on February 10, 2015, or within the required 60-day period. Fiat Chrysler now says in its Special Order response that its interim owner notices were mailed one day late.

Additionally, Fiat Chrysler did not notify vehicle owners for over five months of the risk of potential air bag inflator ruptures in Recall No. 14V-354 (now a part of Recall No. 14V-817). Fiat Chrysler still has not notified vehicle owners of Recall No. 14V-817, nearly six months after filing its Part 573 Report in December 2014. Although Fiat Chrysler submitted draft interim notices to NHTSA for approval in both Recall Nos. 14V-354 and 14V-817, Fiat Chrysler apparently never sent those notices to owners.

Timely notification to vehicle owners about recalls is critical so that they can make informed decisions concerning their safety. Even where a manufacturer does not have parts available to immediately repair the vehicle, an owner is entitled to understand the risk of continuing to drive the vehicle before it is repaired.

B. Untimely Recall Notice to NHTSA

Fiat Chrysler's chronology for Recall No. 15V-090 states that its supplier notified it in October 2014 of a production process issue linked to the transmission shift failures that are the subject of the recall. Fiat Chrysler did not initiate the recall, by submitting a Part 573 Report, until over two months later. Fiat Chrysler's chronology ends on December 7, 2014, when Fiat Chrysler received additional information from its supplier. Fiat Chrysler has not provided a complete chronology explaining this apparent delay in conducting a recall despite NHTSA's request to do so.

The requirement to initiate a recall within five working days of knowing of a safety-related defect helps to mitigate the risk of safety-related defects. That requirement exists so that the public is notified of safety risks and so that vehicle owners can expeditiously have their vehicles remedied. Additionally, the requirement for a complete chronology is important so that NHTSA may ensure that recalls are timely.

C. Failure To Notify NHTSA About Changes to Notification Schedule

It appears that Fiat Chrysler did not keep NHTSA informed about its schedule for notifying vehicle owners about recalls, as required. Fiat Chrysler did not notify NHTSA, by amending its Part 573 Report within five working days, of changes to the estimated dates on which it will begin notifying owners or dealers in several recalls, including Recall Nos. 13V-527, 14V-373, 14V-567, 14V-643, 14V-749, and 14V-795. In some of those recalls, involving a delay of more than two weeks in the notification schedule, Fiat Chrysler did not promptly provide the reasons for the delay and a revised estimate.

Timely and complete information about a manufacturer's notification schedule is important to ensure that vehicle owners are kept informed about safety defects and know when and how they can have those defects fixed. Similarly, dealer notices provide essential information on the defects so that dealers can keep their customers informed and repair their vehicles expediously and effectively.

D. Failure To Submit Copies of Recall Communications to NHTSA

NHTSA has tentatively concluded that Fiat Chrysler also has not submitted representative copies of recall communications to NHTSA as required. This includes not submitting a draft owner notification for NHSTA's review and approval, and not timely submitting copies of owner and dealer communications to NHTSA.

1. Failure To Submit a Draft Owner Notification Letter

In at least one recall, Recall No. 14V-749, Fiat Chrysler did not submit a draft owner notification letter to NHTSA prior to mailing it.

NHTSA reviews draft owner notification letters to ensure that they contain accurate and complete information. Failing to submit a draft owner notice to NHTSA as required prevents NHTSA from ensuring that owners receive critical information about their recalled vehicles, including the safety risk associated with the defect and how to have it fixed.

2. Failure To Submit Copies of Recall Communications to Owners and Dealers

Despite a legal requirement that Fiat Chrysler submit copies of recall communications to the agency within five days, NHTSA staff repeatedly has had to request that Fiat Chrysler submit copies of those documents to the agency. Fiat Chrysler did not submit copies of owner letters within five days as required in recalls including Recall Nos. 13V-527, 14V-373, 14V-438, 14V-634, 14V-643, 14V-795, 15V-114, and 15V-115. Fiat Chrysler also did not submit copies of dealer communications within five days as required in Recall Nos. 13V-252, 13V-527, 13V-528, 13V-529, 13V-373, 13V-391, 14V-567, 14V-635, 14V-749, 14V-795, 14V-796, 15V-090, 15V-115, and 15V-178. In twelve of those recalls, Fiat Chrysler did not provide NHTSA with copies of certain recall-related dealer communications until after NHTSA noticed this public hearing. When Fiat Chrysler does submit copies of recall communications, it routinely enters incorrect information into NHTSA's recalls portal, such as providing the date that Fiat Chrysler submitted a document to NHTSA or leaving the date blank, rather than providing the date that Fiat Chrysler mailed its notification to owners.

Compliance with the requirement to submit representative copies of owner notification letters to the agency and to provide correct and complete information about the notifications to NHTSA is important so that NHTSA may ensure vehicle owners are aware of defects in their vehicles and have information on how to have those defects fixed. Likewise, the requirement to submit dealer communications enables the agency to evaluate whether dealers have accurate and complete information necessary to remedy vehicles. Among other things, dealer communications provide the personnel responsible for actually repairing vehicles with the instructions on how to do so. It is essential that NHTSA have access to those communications so that it can fulfill its statutory oversight role to ensure that remedies are effective.

E. Failure To Provide NHTSA With Other Critical Information About Recalls

NHSTA has tentatively concluded that Fiat Chrysler also has not provided NHTSA with other critical information about its recalls by submitting timely, accurate, and complete amendments to its Part 573 Reports, and by properly submitting information through NHTSA's online recalls portal. The requirement to file an amended Part 573 Report is important because the act of amending the Part 573 Report lets NHTSA and the public know that the manufacturer has become aware of significant new or changed information about the recall.

1. Failure To Submit Information on the Vehicles Impacted by a Recall

Across multiple recalls, Fiat Chrysler has not correctly and completely identified the vehicles affected by the recalls. In several recalls, Fiat Chrysler sent letters or other submissions to NHTSA that showed an apparent change to the number of vehicles involved in a recall, rather than filing an amended Part 573 Report as required. On multiple occasions, Fiat Chrysler provided inconsistent information to NHTSA—apparently changing the recall population in a cover letter and then providing contradictory information in a later-filed amendment to its Part 573 Report for the recall. These recalls include Recalls No. 13V-527, 14V-373, 14V-154, 14V-438, 14V-634, 14V-635, 14V-643, 14V-749, 14V-795, 15V-090, and 15V-115. In another recall, Recall No. 15V-041, Fiat Chrysler did not correctly identify the vehicle identification numbers (VINs) associated with the recall. NHTSA oversight caught over 65,000 vehicles impacted by the recall that Fiat Chrysler had not included. Additionally, Fiat Chrysler did not provide NHTSA with information on the vehicles affected by Takata air bag inflator Recall No. 14V-354 (now a part of Recall No. 14V-817) for over seven weeks, lagging far behind other manufacturers recalling vehicles for the same issue.

A failure to follow the requirements for providing information on the vehicles affected by a recall is concerning because, if a manufacturer cannot provide NHTSA with consistent, correct, and timely information on the vehicles included in a recall to the agency, it suggests that the manufacturer may also be failing to provide all vehicle owners with notice of the defect and access to a free remedy as the law requires. Moreover, placing information on changes to the vehicle population affected by a recall in routine correspondence rather than filing an amended Part 573 Report, as required, impedes NHTSA and the public's ability to understand the full universe of vehicles impacted by the defect.

2. Failure To Submit Information on the Recall Remedy

NHTSA has tentatively concluded that Fiat Chrysler also has not submitted amended Part 573 Reports as required when it has confirmed or changed its remedy plan. This has occurred for recalls including Recall Nos. 13V-527 and 14V-634.

Having timely and complete access to information on a manufacturer's remedy plan is essential for the agency to assess the remedy plan and ensure that a manufacturer is meeting its obligation to adequately repair vehicle defects within a reasonable time.

VII. Decision To Conduct a Public Hearing

NHTSA has decided that it is necessary to conduct a public hearing to decide whether Fiat Chrysler has reasonably met the remedy and notification requirements under 49 U.S.C. 30118 and 30120. See 49 U.S.C. §§ 30118(e), §§ 30120(e); 49 CFR 557.6(d), 557.7.

Based on information presented at the public hearing and other available information, NHTSA may issue an order that could include a finding that Fiat Chrysler failed to carry out its recall requirements under the Safety Act and requiring Fiat Chrysler to take specific actions to comply with the law.

Any interested person may make written and/or oral presentations of information, views, and arguments on whether Fiat Chrysler has reasonably met the remedy and/or notification requirements. There will be no cross-examination of witnesses. 49 CFR 557.7.

NHTSA will consider the views of participants in deciding whether Fiat Chrysler has reasonably met the notification and/or remedy requirements under 49 U.S.C. §§ 30118 and 30120, and in developing the terms of an order (if any) requiring Fiat Chrysler to take specified action as the remedy for the recalls and/or take other action. 49 U.S.C. §§ 30118(e), 30120(e); 49 CFR 557.8.

Procedural Matters: Interested persons may participate in these proceedings through written and/or oral presentations. Persons wishing to attend must notify Carla Bridges, National Highway Traffic Safety Administration, 1200 New Jersey Avenue SE., Washington, DC 20590 (Telephone: 202-366-2992) (Fax: 202-366-3820), before the close of business on June 30, 2015 (and June 26, 2015, for non-U.S. citizens). Each person wishing to attend must provide his or her name and country of citizenship. Non-U.S. citizens must also provide date of birth, title or position, and passport or diplomatic ID number, along with expiration date. Each person wishing to make an oral presentation must also specify the amount of time that the presentation is expected to last, his or her organizational affiliation, phone number, and email address. NHTSA will prepare a schedule of presentations. Depending upon the number of persons who wish to make oral presentations and the anticipated length of those presentations, NHTSA may limit the length of oral presentations.

For security purposes, photo identification is required to enter the U.S. Department of Transportation building. To allow sufficient time to clear security and enter the building, NHTSA recommends that hearing participants arrive 30 to 60 minutes prior to the start of the public hearing.

The hearing will be held at a site accessible to individuals with disabilities. Individuals who require accommodations, such as sign language interpreters, should contact Ms. Justine Casselle using the contact information in the FOR FURTHER INFORMATION CONTACT section above no later than June 24, 2015. A transcript of the proceedings will be placed in the docket for this notice at a later date.

Persons who wish to file written comments should submit them so that they are received by NHTSA no later than June 23, 2015. Instructions on how to submit written comments to the docket is located under the ADDRESSES section of this notice.

Authority: 49 U.S.C. §§ 30118(e), 30120(e); 49 CFR 557.6(d), 557.7; delegations of authority at 49 CFR 1.95(a) and 501.2(a)(1).

Issued: June 16, 2015.
Mark R. Rosekind,
Administrator.

[FR Doc. 2015-15246 Filed 6-19-15; 8:45 am]

BILLING CODE 4910-59-P